DEPARTMENT OF DEFENSE

Office of the Secretary

[Docket ID DOD-2015-OS-0048]

Submission for OMB Review; Comment Request

ACTION: Notice.

SUMMARY: The Department of Defense has submitted to OMB for clearance, the following proposal for collection of information under the provisions of the Paperwork Reduction Act.

DATES: Consideration will be given to all comments received by August 22, 2016.

FOR FURTHER INFORMATION CONTACT: Fred Licari, 571-372-0493.

SUPPLEMENTARY INFORMATION:

Title, Associated Form and OMB Number: “Department of Defense Security Agreement,” “Appendage to Department of Defense Security Agreement,” “Certificate Pertaining to Foreign Interests;” DD Forms 441, 441-1 and SF 328; OMB Control Number 0704-0194.

Type of Request: Reinstatement, with change, of a previously approved collection for which approval has expired.

Number of Respondents: 6,851.

Responses per Respondent: 1.

Annual Responses: 6,851.

Average Burden per Response: 1.5 hours.

Annual Burden Hours: 4171.3 hours.

Needs And Uses: Executive Order (EO) 12829 as amended, “National Industrial Security Program (NISP),” stipulates that the Secretary of Defense shall serve as the Executive Agent for inspecting and monitoring the contractors, licensees, and grantees who require or will require access to or who store or will store classified information; and for determining the eligibility for access to classified information of contractors, licensees, and grantees and their respective employees. The specific requirements necessary to protect classified information released to private industry are set forth in Department of Defense (DoD) 5220.22M, “National Industrial Security Program Operating Manual (NISPOM),” dated February 28, 2006 as amended by Conforming Change 1, dated March 28, 2013. These forms are mandated in the Industrial Security Regulation DoD 5220.22-R dated December 1985 as amended, DoD 5220.22—NISP Volume 3, dated April 17, 2014 and the Federal Acquisition Regulation. Respondents must execute DD Form 441, “Department of Defense Security Agreement,” which is the initial agreement between the contractor and the government regarding security requirements necessary to protect classified information associated with the contract. This legally binding document details the responsibility of both parties and obligates the contractor to fulfill the requirements outlined in DoD 5220.22M. The DD Form 441-1, “Appendage to Department of Defense Security Agreement,” is used to extend the agreement to branch offices of the contractor. The SF Form 328, “Certificate Pertaining to Foreign Interests,” must be submitted to provide certification regarding elements of Foreign Ownership, Control, or Influence (FOCI) as stipulated in paragraph 2-302 of the NISPOM. DSS proposes to make changes to the DD Form 441 and SF 328. The requirement for execution of the corporate “Certificate” section and the use of a corporate seal is being deleted. Currently the government does not require all corporations to execute the corporate Certificate portion of the Forms. Only those corporations who are in possession of a seal were being required to execute the Certificate. Corporations that do not have a seal and other types of business structures such as limited liability companies, partnership and sole proprietors are only required to have the signing of the agreement witnessed. DSS proposes that a witness is sufficient for all companies whether or not they are a corporation.

Affected Public: Business or other for-profit; individuals or households; Not-for-profit institutions.

Frequency: On occasion.

Respondent's Obligation: Voluntary.

OMB Desk Officer: Ms. Jasmeet Seehra.

Comments and recommendations on the proposed information collection should be emailed to Ms. Jasmeet Seehra, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 02G09, Alexandria, VA 22350-3100.

Dated: July 19, 2016.
Aaron Siegel,
Alternate OSD Federal Register Liaison Officer, Department of Defense.

[FR Doc. 2016-17353 Filed 7-21-16; 8:45 am]

BILLING CODE 5001-06-P